NUCLEAR REGULATORY COMMISSION

Agency Information Collection Activities: Proposed Collection; Comment Request

AGENCY: U.S. Nuclear Regulatory Commission (NRC).

ACTION: Notice of pending NRC action to submit an information collection request to OMB and solicitation of public comment.

SUMMARY: The NRC is preparing a submittal to OMB for review of continued approval of information collection under the provisions of the Paperwork Reduction Act of 1995 (44 U.S.C. Chapter 35).

Information pertaining to the requirement to be submitted.

1. The title of the information collection:

NRC Form 4, “Cumulative Occupational Exposure History”

NRC Form 5, “Occupational Exposure Record for a Monitoring Period”

2. Current OMB approval number:

NRC Form 4: 3150-0005

NRC Form 5: 3150-0006

3. How often the collection is required:

NRC Form 4: Occasionally

NRC Form 5: Annually

4. Who is required or asked to report: Licensees who are required to comply with 10 CFR Part 20.

5. The number of annual respondents:

NRC Form 4: 286 (104 reactor sites and 182)

NRC Form 5: 5,400 (104 reactor sites and 5,296 materials licensees)

6. The number of hours needed annually to complete the requirement or request:

NRC Form 4: 11,531 hours or an average of 0.5 hours per response.

NRC Form 5: 66,682 hours (55,242 hours for recordkeeping hours or an average of 10 hours per recordkeeper and 11,440 hours for reporting hours or an average of 40 hours per response).

7. Abstract: NRC Form 4 is used to record the summary of an individual's cumulative occupational radiation dose for the current year to ensure that dose does not exceed regulatory limits. NRC Form 5 is used to record and report the results of individual monitoring for an occupational dose from radiation during a one-year period to ensure regulatory compliance with annual dose limits.

Submit, by July 17, 2001, comments that address the following questions:

1. Is the proposed collection of information necessary for the NRC to properly perform its functions? Does the information have practical utility?

2. Is the burden estimate accurate?

3. Is there a way to enhance the quality, utility, and clarity of the information to be collected?

4. How can the burden of the information collection be minimized, including the use of automated collection techniques or other forms of information technology?

A copy of the draft supporting statement may be viewed free of charge at the NRC Public Document Room, One White Flint North, 11555 Rockville Pike, Room O-1 F23, Rockville, MD 20852. OMB clearance requests are available at the NRC worldwide web site: http://www.nrc.gov/NRC/PUBLIC/OMB/index.html. The document will be available on the NRC home page site for 60 days after the signature date of this notice.

Comments and questions about the information collection requirements may be directed to the NRC Clearance Officer, Brenda Jo. Shelton, U.S. Nuclear Regulatory Commission T-6 E6, Washington, DC 20555-0001, by telephone at 301-415-7233, or by Internet electronic mail at BJS1@NRC.GOV.

Dated at Rockville, Maryland, this 14th day of May 2001.
For the Nuclear Regulatory Commission.
Brenda Jo. Shelton,
NRC Clearance Officer, Office of the Chief Information Officer.

[FR Doc. 01-12556 Filed 5-17-01; 8:45 am]

BILLING CODE 7590-01-M